DEPARTMENT OF THE INTERIOR

National Park Service

[NPS-SER-KEMO-25224; PPSEKEMOS0/PPMPSPD1Z.YM00000]

Establishment of a New Fee Area at Kennesaw Mountain National Battlefield Park

AGENCY: National Park Service, Interior.

ACTION: Notice.

SUMMARY: This notice is to comply with section 804 of the Federal Lands Recreation Enhancement Act of 2004. The act requires agencies to give the public advance notice (6 months) of the establishment of a new recreation fee area.

DATES: We will begin collecting fees on February 6, 2019.

FOR FURTHER INFORMATION CONTACT: Nancy Walther, Superintendent, 900 Kennesaw Mountain Drive, Kennesaw, GA 30152. 770-427-4686, extension 223, or via email at nancy_walther@nps.gov.

SUPPLEMENTARY INFORMATION: Kennesaw Mountain National Battlefield Park plans to collect the following recreation fees at the park beginning in six months: $5 per vehicle per day; $1 per pedestrian per day and $40 park annual pass. Revenue will be used to cover the cost of collections at the park and address the park's deferred maintenance backlog. These fees were determined by the National Park Service's group pricing model and comments from the public and stakeholders. In accordance with NPS public involvement guidelines, the park engaged numerous individuals, organizations, and local, state, and Federal government representatives while planning for the implementation of this fee.

Dated: August 3, 2018.
Lena McDowall,
Deputy Director, Management and Administration.

[FR Doc. 2018-17210 Filed 8-9-18; 8:45 am]

BILLING CODE 4312-52-P